DEPARTMENT OF HEALTH AND HUMAN SERVICES

National Institutes of Health

Center for Scientific Review; Amended Notice of Meeting

Notice is hereby given of a change in the meeting of the Development—2 Study Section, October 10, 2013, 08:00 a.m. to October 10, 2013, 06:00 p.m., Doubletree Hotel Washington, 1515 Rhode Island Ave NW., Washington, DC 20005 which was published in the Federal Register on September 11, 2013, 78 FR Pgs. 55752-55753.

The meeting will be held at the National Institutes of Health, 6701 Rockledge Drive, Bethesda, MD 20892. The meeting will start on December 12, 2013 at 9:00 a.m. and end on December 12, 2013 at 7:00 p.m. The meeting is closed to the public.

Dated: October 23, 2013.
David Clary,
Program Analyst, Office of Federal Advisory Committee Policy.

[FR Doc. 2013-25484 Filed 10-28-13; 8:45 am]

BILLING CODE 4140-01-P